DEPARTMENT OF HEALTH AND HUMAN SERVICES

Centers for Disease Control and Prevention

Breast and Cervical Cancer Early Detection and Control Advisory Committee

In accordance with section 10(a)(2) of the Federal Advisory Committee Act (Pub. L. 92-463), the Centers for Disease Control and Prevention (CDC) announces the following committee meeting:

Name: Breast and Cervical Cancer Early Detection and Control Advisory Committee (BCCEDCAC).

Times and Dates: 8:30 a.m.-4 p.m., December 9, 2004, 8:30 a.m.-2:30 p.m., December 10, 2004.

Place: Hilton-Atlanta Airport, 1031 Virginia Avenue, Atlanta, Georgia 30354, Phone: (404) 767-9000.

Status: Open to the public, limited only by the space available.

Purpose: The committee is charged with advising the Secretary, Department of Health and Human Services, and the Director, CDC, regarding the early detection and control of breast and cervical cancer. The committee makes recommendations regarding national program goals and objectives; implementation strategies; and program priorities including surveillance, epidemiologic investigations, education and training, information dissemination, professional interactions and collaborations, and policy.

Matters to be Discussed: The agenda will include discussion and review of the Division of Cancer Prevention and Control National Report; updates regarding integration between breast and cervical and comprehensive cancer control; status report on the Breast and Cervical Cancer expert panels; review of National Breast and Cervical Cancer Early Detection Program Strategic Planning Process. Agenda items are subject to change as priorities dictate.

For Further Information Contact: Debra Younginer, Executive Secretary, BCCEDCAC, Division of Cancer Prevention and Control, National Center for Chronic Disease Prevention and Health Promotion, CDC, 4770 Buford Highway, Mailstop K-57, Chamblee, Georgia 30316, Telephone: (770) 488-1074.

The Director, Management Analysis and Services Office, has been delegated the authority to sign Federal Register notices pertaining to announcements of meetings and other committee management activities for both CDC and the Agency for Toxic Substances and Disease Registry.

Dated: November 5, 2004.
Alvin Hall,
Director, Management Analysis and Services Office, Centers for Disease Control and Prevention.

[FR Doc. 04-25184 Filed 11-10-04; 8:45 am]

BILLING CODE 4163-18-P